DEPARTMENT OF HOUSING AND URBAN DEVELOPMENT

[Docket No. FR-5831-N-51]

30-Day Notice of Proposed Information Collection: Loan Guarantee Recovery Fund Established Pursuant to the Church Arson Prevention Act of 1996

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: November 23, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on August 19, 2015.

A. Overview of Information Collection

Title of Information Collection: Loan Guarantee Recovery Fund established pursuant to the Church Arson Prevention Act of 1996.

OMB Approval Number: 2506-0159.

Type of Request: Extension of currently approved collection.

Form Number: HUD-40076-LGA, SF-424.

Description of the need for the information and proposed use: The purpose of this submission is for the application of the Section 4 Loan Guarantee Recovery Fund loan guarantee process. Under this program, HUD provides loan guarantees to lending institutions that provide loans to houses of worship that have been the victims of hate crime or arson. Under the Loan Guarantee Agreement, the lending institution is required to provide repayment information to HUD on a monthly basis to ensure the lender is repaying the loan within the guidelines of the Loan Guarantee Agreement.

Respondents (i.e. affected public): 36.

Estimated Number of Respondents: 36.

Estimated Number of Responses: 432.

Frequency of Response: 24.

Average Hours per Response: 2.

Total Estimated Burdens: 864.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: 12 U.S.C. 1701z-1 Research and Demonstrations.

Dated: October 16, 2015.
Colette Pollard,
Department Reports Management Officer, Office of the Chief Information Officer.

[FR Doc. 2015-27022 Filed 10-22-15; 8:45 am]

BILLING CODE 4210-67-P